DEPARTMENT OF AGRICULTURE

Forest Service

Information Collection; Request for Comments; Public Perceptions of Wildfire Management Within the Southern California Wildland-Urban Interface

AGENCY: Forest Service, USDA.

ACTION: Notice.

SUMMARY: In accordance with the Paperwork Reduction Act of 1995, the Forest Service is seeking comments from all interested individuals and organizations on the new information collection, Public Perceptions of Wildfire Management within the Southern California Wildland-Urban Interface. This study requires administration of a survey to a statistical sample of forest proximate residents and visitors.

DATES: Comments must be received in writing on or before January 3, 2005, to be assured of consideration. Comments received after that date will be considered to the extent practicable.

ADDRESSES: Comments concerning this notice should be addressed to Dr. James Absher, Pacific Southwest Research Station, Forest Service, USDA, 4955 Canyon Crest Drive, Riverside, CA 92507.

Comments may also be submitted via facsimile to (951) 680-1501 or by e-mail to jabsher@fs.fed.us.

The public may inspect comments received at the Pacific Southwest Research Station, Forest Service, USDA, 4955 Canyon Crest Drive, Riverside, California, during normal business hours. Visitors are encouraged to call ahead to (951) 680-1500 to facilitate entry to the building.

FOR FURTHER INFORMATION CONTACT: Dr. James Absher, Pacific Southwest Research Station. (951) 680-1559. Individuals who use telecommunication devices for the deaf (TDD) may call the Federal Relay Service (FRS) at 1-800-877-8339 24 hours a day, every day of the year, including holidays.

SUPPLEMENTARY INFORMATION: Title: Public Perceptions of Wildfire Management within the Southern California Wildland-Urban Interface.

OMB Number: 0596-New.

Expiration Date of Approval: N/A.

Type of Request: New.

Abstract: Recent wildfires in the Western United States and the resultant public response to the devastation caused by them highlight the need for understanding the human dimensions of forest and wildfire management. Because the impacts of wildland fire extend beyond public land boundaries into the private communities lying on their periphery, understanding their response to the loss of public and private property is important. Public land management agencies need a better understanding of local preferences for management options and of community needs, particularly from those residing within the wildland—urban interface.

Information will be collected from residents of communities adjacent to a National Forest in southern California and from visitors to the same National Forest area. The information collected will provide forest managers with greater understanding of public attitudes, preferences, and behaviors related to the Forest Service's wildland fire management, including fire management practices and policies, information about respondents' own behaviors related to hazard reduction and preparedness, and respondents' knowledge of Forest Service fire management programs, such as Firewise.

Researchers will use two primary methods of data collection: (a) a self administered questionnaire mailed to residents in forest proximate neighborhoods and (b) an onsite interview with a follow-up mail questionnaire. Both interview and questionnaire are voluntary.

Experts in recreation, social science and fire management from the Forest Service and cooperating universities, in consultation with National Forest staff, will develop the surveys. The researchers will then administer the surveys to a random sample of residents drawn from adjacent communities and visitors to the Forest, analyze the information and incorporate the results and recommendations into reports for use by managers and other researchers. This survey is necessary to provide information about residents and visitors' perceptions and preferences related to Forest Service fire management policy and practice, and will enable the Forest Service to better respond to community need.

Estimate of Annual Burden: 20 minutes per respondent.

Type of Respondents: Randomly selected individuals that are residents living near a southern California National Forest and National Forest visitors.

Estimated Annual Number of Respondents: 2,000.

Estimated Annual Number of Responses per Respondent: 1.

Estimated Total Annual Burden on Respondents: 667 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. Comments will be summarized and included in the submission request toward Office of Management and Budget approval.

Dated: October 19, 2004.
Barbara C. Weber,
Associate Deputy Chief for Research & Development.

[FR Doc. 04-24299 Filed 10-29-04; 8:45 am]

BILLING CODE 3410-11-P